DEPARTMENT OF COMMERCE

National Oceanic and Atmospheric Administration

[I.D. 112806D]

Endangered Species; File No. 1575

AGENCY: National Marine Fisheries Service (NMFS), National Oceanic and Atmospheric Administration (NOAA), Commerce.

ACTION: Notice; issuance of permit.

SUMMARY: Notice is hereby given that Earth Tech Northeast Inc. (Joseph Falbo, Responsible Party), One World Financial Center, 200 Liberty Street, 25th Floor, New York, New York 10281, has been issued a permit to conduct scientific research on shortnose sturgeon (Acipenser brevirostrum) on the Hudson River, New York.

ADDRESSES: The permit and related documents are available for review upon written request or by appointment in the following offices:

Permits, Conservation and Education Division, Office of Protected Resources, NMFS, 1315 East-West Highway, Room 13705, Silver Spring, MD 20910; phone (301) 713-2289; fax (301) 427-2521; and

Northeast Region, NMFS, One Blackburn Drive, Gloucester, MA 01930-2298; phone (978) 281-9300; fax (978) 281-9394.

FOR FURTHER INFORMATION CONTACT: Malcolm Mohead or Brandy Hutnak, (301)713-2289.

SUPPLEMENTARY INFORMATION: On May 10, 2006, notice was published in the Federal Register (71 FR 27230) that a request for a scientific research permit to take shortnose sturgeon had been submitted by Earth Tech Northeast Inc. The requested permit has been issued under the authority of the Endangered Species Act of 1973, as amended (ESA; 16 U.S.C. 1531 et seq.) and the regulations governing the taking, importing, and exporting of endangered and threatened species (50 CFR parts 222-226).

Earth Tech Northeast Inc. proposes to document: (1) The use of the existing Tappan Zee Bridge structure on the Hudson River as significant habitat by fisheries resources; and (2) the relative abundance and spatial and temporal patterns of shortnose sturgeon, if these fish are present. The applicants propose to use anchored gill nets and traps to capture, measure, scan and release a maximum of 250 juvenile and adult shortnose sturgeon. The proposed research would occur at six stations alongside and under the existing Tappan Zee Bridge and at three reference locations within 700 feet north of the existing bridge.

Issuance of this permit, as required by the ESA, was based on a finding that such permit (1) was applied for in good faith, (2) will not operate to the disadvantage of the endangered species which is the subject of this permit, and (3) is consistent with the purposes and policies set forth in section 2 of the ESA.

Dated: November 28, 2006.
P. Michael Payne,
Chief, Permits, Conservation and Education Division, Office of Protected Resources, National Marine Fisheries Service.

[FR Doc. E6-20453 Filed 12-1-06; 8:45 am]

BILLING CODE 3510-22-S